DEPARTMENT OF THE INTERIOR

Bureau of Land Management

[LLWO220000 L10200000.PK0000; OMB Control Number 1004-0019]

Agency Information Collection Activities; Grazing Management

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before August 5, 2019.

ADDRESSES: Send your comments on this information collection request (ICR) by mail to Jean Sonneman. U.S. Department of the Interior, Bureau of Land Management, 1849 C Street NW, Room 2134LM, Washington, DC 20240; or by email to jsonneman@blm.gov. Please reference OMB Control Number 1004-0019 in the subject line of your comments.

FOR FURTHER INFORMATION CONTACT: To request additional information about this ICR, please contact Maggie Marston by email at mmarston@blm.gov, or by telephone at 202-912-7444. Persons who use a telecommunication device for the deaf may call the Federal Information Relay Service at 1-800-877-8339, to leave a message for the above person.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

The following information pertains to this request:

Abstract: Control number 1004-0019 authorizes range improvements to improve livestock grazing management, improve watershed conditions, enhance wildlife habitat on BLM lands, or serve similar purposes.

Title of Collection: Grazing Management: Range Improvements Agreements and Permits (43 CFR subpart 4120).

OMB Control Number: 1004-0019.

Forms:

• 4120-6, Cooperative Range Improvement Agreement; and

• 4120-7, Range Improvement Permit.

Type of Review: Extension of a currently approved collection.

Respondents/Affected Public: Holders of BLM grazing permits or grazing leases; affected individuals and households; and affected tribal, state and county agencies.

Estimated Number of Annual Responses: 1,110.

Estimated Completion Time per Response: Varies from 1 to 2 hours per response.

Estimated Number of Annual Burden Hours: 1,640.

Respondent's Obligation: Required to obtain a benefit.

Frequency of Collection: On occasion.

Total Estimated Annual Nonhour Burden Cost: None.

The estimated annual burdens of this collection are itemized below:

Type of response | Number of responses | Hours per response | Total hours (column B × column C)
(A) | (B) | (C) | (D)
Cooperative Range Improvement Agreement (43 CFR part 4120.3-2) Form 4120-6 related non-form information | 500 | 2 | 1,000
Range Improvement Permit (43 CFR part 4120.3-3) Form 4120-7 and related non-form information | 30 | 2 | 60
Affected Public/Individuals and Households (43 CFR 4120.5-1) | 50 | 1 | 50
Affected Public/Tribal, State and County Agencies (43 CFR 4120.5-2) | 530 | 1 | 530
Totals | 1,110 |  | 1,640

An agency may not conduct or sponsor and a person is not required to respond to a collection of information unless it displays a currently valid OMB control number. The authority for this action is the Paperwork Reduction Act of 1995 (44 U.S.C. 3501 et seq).

Chandra Little,
Acting Information Collection Clearance Officer, Bureau of Land Management.

[FR Doc. 2019-11813 Filed 6-4-19; 8:45 am]

BILLING CODE 4310-84-P